DEPARTMENT OF ENERGY

Federal Energy Regulatory Commission

Combined Notice of Filings

Take notice that the Commission has received the following Natural Gas Pipeline Rate and Refund Report filings:

Docket Numbers: RP20-661-000.

Applicants: Enable Gas Transmission, LLC.

Description: Annual Revenue Crediting Filing of Enable Gas Transmission, LLC under RP20-661.

Filed Date: 3/17/20.

Accession Number: 20200317-5207.

Comments Due: 5 p.m. ET 3/30/20.

Docket Numbers: RP18-940-007.

Applicants: Empire Pipeline, Inc.

Description: Compliance filing Metadata Corrective Tariff Record Filing to be effective 1/1/2019.

Filed Date: 3/18/20.

Accession Number: 20200318-5111.

Comments Due: 5 p.m. ET 3/30/20.

Docket Numbers: RP20-663-000.

Applicants: Natural Gas Pipeline Company of America.

Description: § 4(d) Rate Filing: Negotiated Rate Filing—Sempra Gas & Power Marketing, LLC to be effective 4/1/2020.

Filed Date: 3/19/20.

Accession Number: 20200319-5047.

Comments Due: 5 p.m. ET 3/31/20.

Docket Numbers: RP20-664-000.

Applicants: Midcontinent Express Pipeline LLC.

Description: Compliance filing 2020 Annual Penalty Revenue Crediting Report.

Filed Date: 3/19/20.

Accession Number: 20200319-5051.

Comments Due: 5 p.m. ET 3/31/20.

Docket Numbers: RP20-665-000.

Applicants: Algonquin Gas Transmission, LLC.

Description: § 4(d) Rate Filing: Name Change Cleanup—Colonial to Boston Gas to be effective 4/20/2020.

Filed Date: 3/19/20.

Accession Number: 20200319-5052.

Comments Due: 5 p.m. ET 3/31/20.

Docket Numbers: RP20-666-000.

Applicants: Algonquin Gas Transmission, LLC.

Description: § 4(d) Rate Filing: Mar2020 Non-conforming Agrmt Cleanup Filing, eff 4-23-2020 to be effective 4/23/2020.

Filed Date: 3/19/20.

Accession Number: 20200319-5120.

Comments Due: 5 p.m. ET 3/31/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 20, 2020.
Nathaniel J. Davis, Sr.,
Deputy Secretary.

[FR Doc. 2020-06320 Filed 3-25-20; 8:45 am]

BILLING CODE 6717-01-P